DEPARTMENT OF ENERGY

10 CFR Part 430

[Docket Number EERE-2016-BT-STD-0004]

RIN 1904-AD61

Appliance Standards and Rulemaking Federal Advisory Committee: Notice of Open Meetings for the Circulator Pumps Working Group To Negotiate a Notice of Proposed Rulemaking (NOPR) for Energy Conservation Standards and Test Procedures

AGENCY: Office of Energy Efficiency and Renewable Energy, Department of Energy.

ACTION: Notice of open meetings and webinars.

SUMMARY: Appliance Standards and Rulemaking Federal Advisory Committee (ASRAC) has granted the Circulator Pumps Working Group an extension to allow for more time for discussion on economic analysis and negotiations on standard levels. The Department of Energy (DOE) is announcing additional open meetings have been scheduled for the Circulator Pumps Working Group.

DATES: See SUPPLEMENTARY INFORMATION section for meeting dates.

ADDRESSES: See SUPPLEMENTARY INFORMATION section for meeting dates. Individuals will also have the opportunity to participate by webinar. To register for the webinars and receive call-in information, please register at DOE's Web site: https://www1.eere.energy.gov/buildings/appliance_standards/standards.aspx?productid=66.

FOR FURTHER INFORMATION CONTACT: Mr. Joe Hagerman, U.S. Department of Energy, Office of Energy Efficiency and Renewable Energy, Building Technologies, EE-5B, 1000 Independence Avenue SW., Washington, DC 20585-0121. Telephone: (202) 586-4549. Email: asrac@ee.doe.gov.

Ms. Johanna Jochum, U.S. Department of Energy, Office of the General Counsel, GC-33, 1000 Independence Avenue SW., Washington, DC 20585-0121. Telephone: (202) 287-6307. Email: Johanna.Jochum@Hq.Doe.Gov.

SUPPLEMENTARY INFORMATION: DOE published a notice of public meeting in the Federal Register on April 20, 2016 (81 FR 23198) announcing Appliance Standards and Rulemaking Federal Advisory Committee: Notice Open Meetings for the Circulator Pumps Working Group to Negotiate a Notice of Proposed Rulemaking for Energy Conservation Standards and Test Procedures. On January 20, 2016, ASRAC met and unanimously passed the recommendation to form a Circulator Pumps Working Group. The purpose of the working group is to discuss and, if possible, reach consensus regarding definitions, test procedures, and energy conservation standards, to form the basis of proposed energy conservation standards and test procedures. The Working Group consists of representatives of parties having a defined stake in the outcome of the proposed standards, and will consult as appropriate with a range of experts on technical issues. Per the ASRAC Charter, the Working Group is expected to make a concerted effort to negotiate a final term sheet by December 31, 2016.

This notice announces the next series of meetings for this working group. DOE will host public meetings and webinars on the below dates.

• November 3, 2016; 9:00 a.m.-5:00 p.m. at Navigant 1200 19th St. NW., Washington, DC

• November 4, 2016; 8:00 a.m.-3:00 p.m. at Navigant 1200 19th St. NW., Washington, DC

• November 30, 2016; 9:00 a.m.-5:00 p.m. at Navigant 1200 19th St. NW., Washington, DC

• December 1, 2016; 8:00 a.m.-3:00 p.m. at Navigant 1200 19th St. NW., Washington, DC

Members of the public are welcome to observe the business of the meeting and, if time allows, may make oral statements during the specified period for public comment. To attend the meeting and/or to make oral statements regarding any of the items on the agenda, email asrac@ee.doe.gov. In the email, please indicate your name, organization (if appropriate), and contact information.

Docket: The docket is available for review at www.regulations.gov, including Federal Register notices, public meeting attendee lists and transcripts, comments, and other supporting documents/materials. All documents in the docket are listed in the www.regulations.gov index. However, not all documents listed in the index may be publicly available, such as information that is exempt from public disclosure.

Issued in Washington, DC, on October 6, 2016.
Kathleen B. Hogan,
Deputy Assistant Secretary for Energy Efficiency, Energy Efficiency and Renewable Energy.

[FR Doc. 2016-24867 Filed 10-13-16; 8:45 am]

BILLING CODE 6450-01-P